DEPARTMENT OF ENERGY

Federal Energy Regulatory Commission

Combined Notice of Filings #2

Take notice that the Commission received the following exempt wholesale generator filings:

Docket Numbers: ER21-2246-000.

Applicants: Southwest Power Pool, Inc.

Description: § 205(d) Rate Filing: 1894R10 Evergy Kansas Central, Inc. NITSA NOA to be effective 9/1/2021.

Filed Date: 6/29/21.

Accession Number: 20210629-5116.

Comments Due: 5 p.m. ET 7/20/21.

Docket Numbers: ER21-2247-000.

Applicants: Southwest Power Pool, Inc.

Description: § 205(d) Rate Filing: 1897R11 Evergy Kansas Central, Inc. NITSA NOA to be effective 9/1/2021.

Filed Date: 6/29/21.

Accession Number: 20210629-5122.

Comments Due: 5 p.m. ET 7/20/21.

Docket Numbers: ER21-2248-000.

Applicants: PacifiCorp.

Description: Tariff Cancellation: Termination of UAMPS Const Agmt for Heber 2nd POD to be effective 9/6/2021.

Filed Date: 6/29/21.

Accession Number: 20210629-5123.

Comments Due: 5 p.m. ET 7/20/21.

Docket Numbers: ER21-2249-000.

Applicants: Kentucky Utilities Company.

Description: § 205(d) Rate Filing: Revisions to Wholesale Requirements Service Bardstown and Nicholasville to be effective 7/1/2021.

Filed Date: 6/29/21.

Accession Number: 20210629-5127.

Comments Due: 5 p.m. ET 7/20/21.

Docket Numbers: ER21-2250-000.

Applicants: Sayreville Power LP.

Description: § 205(d) Rate Filing: Notice of Succession and Revisions to Tariffs (I) to be effective 5/18/2021.

Filed Date: 6/29/21.

Accession Number: 20210629-5128.

Comments Due: 5 p.m. ET 7/20/21.

Docket Numbers: ER21-2251-000.

Applicants: American Transmission Systems, Incorporated, PJM Interconnection, L.L.C.

Description: § 205(d) Rate Filing: ATSI submits Two ECSAs, SA Nos. 5951 and 5952 to be effective 8/29/2021.

Filed Date: 6/29/21.

Accession Number: 20210629-5130.

Comments Due: 5 p.m. ET 7/20/21.

Docket Numbers: ER21-2252-000.

Applicants: Sayreville Power LP.

Description: § 205(d) Rate Filing: Notice of Succession and Revisions to Tariffs (II) to be effective 5/18/2021.

Filed Date: 6/29/21.

Accession Number: 20210629-5129.

Comments Due: 5 p.m. ET 7/20/21.

Docket Numbers: ER21-2253-000.

Applicants: Southwest Power Pool, Inc.

Description: § 205(d) Rate Filing: 1892R10 Evergy Kansas Central, Inc. NITSA NOA to be effective 9/1/2021.

Filed Date: 6/29/21.

Accession Number: 20210629-5136.

Comments Due: 5 p.m. ET 7/20/21.

Docket Numbers: ER21-2254-000.

Applicants: Assembly Solar I, LLC.

Description: § 205(d) Rate Filing: Revised Market-Based Rate Tariff Filing to be effective 6/30/2021.

Filed Date: 6/29/21.

Accession Number: 20210629-5150.

Comments Due: 5 p.m. ET 7/20/21.

Docket Numbers: ER21-2255-000.

Applicants: Dressor Plains Solar, LLC.

Description: § 205(d) Rate Filing: Revised Market-Based Rate Tariff Filing to be effective 6/30/2021.

Filed Date: 6/29/21.

Accession Number: 20210629-5144.

Comments Due: 5 p.m. ET 7/20/21.

Docket Numbers: ER21-2256-000.

Applicants: Iris Solar, LLC.

Description: § 205(d) Rate Filing: Revised Market-Based Rate Tariff Filing to be effective 6/30/2021.

Filed Date: 6/29/21.

Accession Number: 20210629-5145.

Comments Due: 5 p.m. ET 7/20/21.

Docket Numbers: ER21-2257-000.

Applicants: North Star Solar PV LLC.

Description: § 205(d) Rate Filing: Revised Market-Based Rate Tariff Filing to be effective 6/30/2021.

Filed Date: 6/29/21.

Accession Number: 20210629-5146.

Comments Due: 5 p.m. ET 7/20/21.

Docket Numbers: ER21-2258-000.

Applicants: NRG Cottonwood Tenant LLC.

Description: § 205(d) Rate Filing: Market-Based Rate Tariff Revisions to be effective 6/30/2021.

Filed Date: 6/29/21.

Accession Number: 20210629-5151.

Comments Due: 5 p.m. ET 7/20/21.

Docket Numbers: ER21-2259-000.

Applicants: Prairie State Solar, LLC.

Description: § 205(d) Rate Filing: Revised Market-Based Rate Tariff Filing to be effective 6/30/2021.

Filed Date: 6/29/21.

Accession Number: 20210629-5155.

Comments Due: 5 p.m. ET 7/20/21.

Docket Numbers: ER21-2260-000.

Applicants: St. James Solar, LLC.

Description: § 205(d) Rate Filing: Revised Market-Based Rate Tariff Filing to be effective 6/30/2021.

Filed Date: 6/29/21.

Accession Number: 20210629-5157.

Comments Due: 5 p.m. ET 7/20/21.

Docket Numbers: ER21-2261-000.

Applicants: Exelon Generation Company, LLC.

Description: § 205(d) Rate Filing: Reactive Service Rate Schedule Filing for Deactivation of Units to be effective 9/14/2021.

Filed Date: 6/29/21.

Accession Number: 20210629-5158.

Comments Due: 5 p.m. ET 7/20/21.

Docket Numbers: ER21-2262-000.

Applicants: Southwest Power Pool, Inc.

Description: § 205(d) Rate Filing: 2045R10 Evergy Kansas Central, Inc. NITSA NOA to be effective 9/1/2021.

Filed Date: 6/29/21.

Accession Number: 20210629-5169.

Comments Due: 5 p.m. ET 7/20/21.

Docket Numbers: ER21-2263-000.

Applicants: Southwest Power Pool, Inc.

Description: § 205(d) Rate Filing: 1978R10 Evergy Kansas Central, Inc. NITSA NOA to be effective 9/1/2021.

Filed Date: 6/29/21.

Accession Number: 20210629-5189.

Comments Due: 5 p.m. ET 7/20/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 29, 2021.
Debbie-Anne A. Reese,
Deputy Secretary.

[FR Doc. 2021-14372 Filed 7-6-21; 8:45 am]

BILLING CODE 6717-01-P